DEPARTMENT OF THE INTERIOR

Bureau of Land Management

[LLORW00000.L11600000.DF0000.LXSSH1080000.223L1109AF; HAG22-0023]

Notice of Public Meetings for the San Juan Islands National Monument Advisory Committee, Washington

AGENCY: Bureau of Land Management, Interior.

ACTION: Notice of public meetings.

SUMMARY: In accordance with the Federal Land Policy and Management Act and the Federal Advisory Committee Act of 1972, the U.S. Department of the Interior, Bureau of Land Management's (BLM) San Juan Islands National Monument Advisory Committee (MAC) will meet as follows.

DATES: The MAC will hold virtual public meetings on Thursday, Oct. 6, and Wednesday, Dec. 7, 2022. The meetings will be held via Zoom from 9 a.m. to 3 p.m. Public comment periods will be held from 1:30 p.m. until 2:30 p.m. during each meeting.

ADDRESSES: The Zoom meeting information and instructions will be posted on the Monument Advisory Committee's web page at https://www.blm.gov/get-involved/resource-advisory-council/near-you/oregon-washington/san-juan-islands-mac 1 month prior to each meeting and on the press release that will be issued 1week prior to each meeting.

The public may send written comments to the MAC at the BLM Spokane District, Attn. MAC, 1103 N Fancher, Spokane Valley, WA 99212, or via email to jeffclark@blm.gov.

FOR FURTHER INFORMATION CONTACT: Jeff Clark, Spokane District Public Affairs Officer, 1103 N Fancher, Spokane Valley, WA 99212; telephone: (509) 536-1297; or email: jeffclark@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The San Juan Islands MAC is comprised of 12 members representing a wide array of interests, including recreation and tourism, tribal interests, cultural and heritage, education and interpretation, wildlife and ecology, local government, the public at large, and private landowners. All MAC meetings are open to the public.

The October meeting will begin with a welcome to new MAC members. After introductions, the members will spend time reviewing the Resource Management Plan (RMP) for the San Juan Islands National Monument. Discussion and review will continue until a working lunch at noon. The next topic will be to consider opportunities for the MAC to support implementation of the RMP. At 1:30 p.m. members of the public will have the opportunity to make comments to the MAC during a 1-hour public comment period. Depending on the number of persons wishing to comment, the length of comments may be limited. The meeting will adjourn no later than 3 p.m. The December meeting will also begin at 9 a.m. with welcomes and introductions. After introductions, the members will spend time reviewing possible implementation projects the MAC can assist with and clarifying items from the BLM. This discussion/review will continue through a working lunch at noon. The next topic will be to consider opportunities for the MAC to support implementation of the RMP when the record of decision is signed. At 1:30 p.m. members of the public will have the opportunity to make comments to the MAC during a 1-hour public comment period. Depending on the number of persons wishing to comment, the length of comments may be limited. The meeting will adjourn no later than 3 p.m.

Before including your address, phone number, email address, or other personal identifying information in your comment, you should be aware that your entire comment—including your personal identifying information—may be made publicly available at any time. While you can ask us in your comment to withhold your personal identifying information from public review, we cannot guarantee that we will be able to do so.

Please make requests in advance for sign language interpreter services, assistive listening devices, or other reasonable accommodations. We ask that you contact the person listed in the FOR FURTHER INFORMATION CONTACT section of this notice at least 7 business days prior to the meeting to give the Department of the Interior sufficient time to process your request. All reasonable accommodation requests are managed on a case-by-case basis.

(Authority: 43 CFR 1784.4-2)

Kurt Pindel,
Spokane District Manager.

[FR Doc. 2022-19319 Filed 9-6-22; 8:45 am]

BILLING CODE 4310-33-P